DEPARTMENT OF AGRICULTURE

Submission for OMB Review; Comment Request

November 4, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Health Certificate for the Export of Live Crustaceans, Finfish, Mollusks, and Related Products.

OMB Control Number: 0579-NEW.

Summary of Collection: The export of agricultural commodities, including animals and animal products, is a major business in the United States and contributes to a favorable balance of trade. The Animal and Plant Health Inspection Service (APHIS) maintains information regarding the import health requirements of other countries for animals and animal products exported from the United States. The regulations governing the export of animals and products from the United States are contained in 9 CFR parts 91, subchapter D. “Exportation and Importation of Animals (including Poultry) and Animal Products,” and apply to farm-raised aquatic animals and products, as well as other livestock and products. These regulations are authorized by the Animal Health Protection Act (7 U.S.C. 8301-8317). The National Marine Fisheries Service (NMFS), National Oceanic and Atmospheric Administration (NOAA), U.S. Department of Commerce, and the Fish and Wildlife Service (FWS), U.S. Department of Interior, as well as APHIS, have legal authorities and responsibilities related to aquatic animal health in the United States. All three agencies have therefore entered into a Memorandum of Understanding delineating their respective responsibilities in the issuance of the health certificate for the export of live aquatic animals and animal products. A new health certificate has been developed that will bear the logo of all three agencies, and can be used by all three when issuing a health certificate for the export of live crustaceans, finfish, mollusks, and their related products from the U.S.

Need and Use of the Information: The health certificate will require the names of the species being exported from the U.S., their age and weights, and whether they are cultured stock or wild stock; their place of origin, their country of destination and the date and method of transport. The certificate will be completed by an accredited inspector with assistance from the producer and must be signed by both the accredited inspector as well as the appropriate Federal official from APHIS, NOAA, or FWS who certifies the health status of the shipment being exported. The use of the certificate will lend consistency to a public service delivered by three separate agencies, and should make the aquatic export certification process less confusing for those who require this important service. Failing to use this form could result in less efficient service to the exporting public.

Description of Respondents: Farms; Individuals or households; Federal Government.

Number of Respondents: 100.

Frequency of Responses: Reporting: On occasion.

Total Burden Hours: 1,500.

Ruth Brown,
Departmental Information Collection Clearance Officer.

[FR Doc. 05-22404 Filed 11-9-05; 8:45 am]

BILLING CODE 3410-34-P